DEPARTMENT OF ENERGY

Federal Energy Regulatory Commission

[Docket No. CP19-14-000]

Notice of Availability of the Draft Environmental Impact Statement for the Proposed Mountain Valley Pipeline, LLC Southgate Project

The staff of the Federal Energy Regulatory Commission (FERC or Commission) has prepared a draft environmental impact statement (EIS) for the Southgate Project, proposed by Mountain Valley Pipeline, LLC (Mountain Valley) in the above-referenced docket. Mountain Valley requests authorization to construct and operate approximately 73 miles of natural gas transmission pipeline, one new compressor station, and accompanying facilities that would provide about 375 million cubic feet per day [MMcf/d]) of available capacity for transport from the City of Chatham, in Pittsylvania County, Virginia to a delivery point with Dominion Energy (formerly PSNC) near the City of Graham in Alamance County, North Carolina.

The draft EIS assesses the potential environmental effects of the construction and operation of the Southgate Project in accordance with the requirements of the National Environmental Policy Act (NEPA). The FERC staff concludes that approval of the proposed project would result in some adverse environmental impacts. However, if the Project is constructed and operated in accordance with applicable laws and regulations, the mitigation measures discussed in this EIS, and our recommendations, these impacts would be reduced to less-than-significant levels.

The United States Army Corps of Engineers (COE) and the U.S. Department of the Interior Fish and Wildlife Service (FWS) participated as cooperating agencies in preparation of this draft EIS. Cooperating agencies have jurisdiction by law or special expertise with respect to resources potentially affected by the proposal and participate in the NEPA analysis. The COE would use this EIS in their regulatory process, and to satisfy compliance with NEPA and other related federal environmental laws (e.g., the National Historic Preservation Act). Although the cooperating agencies provided input to the conclusions and recommendations presented in the draft EIS, the agencies would present their own conclusions and recommendations in a combined Record of Decision (ROD) for the Project, if required.

The draft EIS addresses the potential environmental effects of the construction and operation of the following project facilities:

• About 73 miles of new 24-inch and 16-inch diameter natural gas pipeline located in Pittsylvania County, Virginia, and Rockingham and Alamance Counties, North Carolina.;

• one new 28,915 horsepower compressor station (Lambert Compressor Station) in Pittsylvania County, Virginia;

• four interconnects or tie-ins with facilities operated by Mountain Valley, East Tennessee Gas, and Dominion Energy; and

• ancillary facilities including pig launchers and receivers, mainline block valves (MLV), and cathodic protection beds.

The Commission mailed a copy of the Notice of Availability of the draft EIS to federal, state, and local government representatives and agencies; elected officials; environmental and public interest groups; Indian Tribes; potentially affected landowners and other interested individuals and groups; and newspapers and libraries in the area of the Project. The draft EIS is available in hard copy at libraries in the area of the Project and in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the Docket Number field, excluding the last three digits (i.e. CP19-14). Be sure you have selected an appropriate date range. For assistance, please contact FERC Online Support at FercOnlineSupport@ferc.gov or toll free at (866) 208-3676, or for TTY, contact (202) 502-8659.

Any person wishing to comment on the draft EIS may do so. Your comments should focus on the draft EIS's disclosure and discussion of potential environmental effects, reasonable alternatives, and measures to avoid or lessen environmental impacts. The more specific your comments, the more useful they will be. To ensure consideration of your comments on the proposal in the final EIS, it is important that the Commission receive your comments on or before 5:00 p.m. Eastern Time on September 16, 2019.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on eRegister. If you are filing a comment on a particular project, please select “Comment on a Filing” as the filing type; or

(3) You can file a paper copy of your comments by mailing them to the following address. Be sure to reference the project docket number (CP19-14-000) with your submission: Kimberly D. Bose, Secretary, Federal Energy Regulatory Commission, 888 First Street NE, Room 1A, Washington, DC 20426.

(4) In lieu of sending written or electronic comments, the Commission invites you to attend one of the public comment sessions that will be held in the Project area to receive comments on the draft EIS, scheduled as follows:

Date and time | Location
August 19, 2019, 5:00-8:00 p.m | Rockingham Community College, 215 Wrenn Memorial Road, Wentworth, NC 27375, (336) 342-4261.
August 20, 2019, 5:00-8:00 p.m | Olde Dominion Ag Complex, 19783 U.S. Hwy. 29 South, Chatham, VA 24531, (434) 432-8026.
August 22, 2019, 5:00-8:00 p.m | Vailtree Event Center, 1567 Bakatsias Lane, Haw River, NC 27258, (336) 578-4020.

The primary goal of these comment sessions is to provide the public with another method for identifying specific environmental issues and concerns with the draft EIS. Individual verbal comments will be taken on a one-on-one basis with a court reporter. This format is designed to receive the maximum amount of verbal comments in a convenient way during the timeframe allotted.

Each comment session is scheduled from 5:00 p.m. to 8:00 p.m. EST. You may arrive at any time after 5:00 p.m. There will not be a formal presentation by Commission staff when the session opens. If you wish to speak, the Commission staff will hand out numbers in the order of your arrival; distribution of numbers will be discontinued at 7:00 p.m. in order to ensure all comments are received by the session closing time. However, if no additional numbers have been handed out and all individuals who wish to provide comments have had an opportunity to do so, staff may conclude the session at 7:00 p.m. Please see appendix 1 for additional information on the session format and conduct.¹

¹ The appendices referenced in this notice will not appear in the Federal Register. Copies of the appendices were sent to all those receiving this notice in the mail and are available at www.ferc.gov using the link called eLibrary or from the Commission's Public Reference Room, 888 First Street NE, Washington, DC 20426, or call (202) 502-8371. For instructions on connecting to eLibrary, refer to the last page of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 3 to 5 minutes may be implemented for each commentor.

It is important to note that verbal comments hold the same weight as written or electronically submitted comments. Although there will not be a formal presentation, Commission staff will be available throughout the comment session to answer your questions about the FERC environmental review process.

Any person seeking to become a party to the proceeding must file a motion to intervene pursuant to Rule 214 of the Commission's Rules of Practice and Procedures (18 CFR part 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: July 26, 2019.
Nathaniel J. Davis, Sr.,
Deputy Secretary.

[FR Doc. 2019-16457 Filed 8-1-19; 8:45 am]

BILLING CODE 6717-01-P